DEPARTMENT OF ENERGY

Federal Energy Regulatory Commission

[Project No. 13244-000]

Whitman River Dam, Inc.; Notice of Preliminary Permit Application Accepted for Filing and Soliciting Comment, Motions To Intervene, and Competing Applications

July 21, 2008.

On June 13, 2008, Whitman River Dam, Inc. filed an application, pursuant to section 4(f) of the Federal Power Act, proposing to develop the hydroelectric potential on Wampanoag Lake located on the Whitman River in the Town of Ashburnham, Worcester County, Massachusetts.

The proposed project would consist of: (1) An earthen dam, 22-foot-high and 660-foot-long, (2) a head pond with storage of 1420.0 acre-feet, (3) one existing 24-inch diameter discharge pipe, and (4) a new powerhouse located in the vicinity of the discharge pipe containing one generating unit having a capacity of 10 kilowatts. The project would have an annual generation of 53,000 kilowatt hours and it is likely that generation will interface with the electric local distribution circuit.

Applicant Contact: Mr. Robert Francis, President, Whitman River Dam, Inc., P.O. Box 145, 10 Tommy Francis Road, Westminster, MA 01473. FERC Contact: Shameek Patel, 202-502-6736.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13244) in the docket number field to access the document. For assistance, call toll-free 1-866-208-3372.

Kimberly D. Bose,
Secretary.

[FR Doc. E8-17156 Filed 7-25-08; 8:45 am]

BILLING CODE 6717-01-P